DEPARTMENT OF THE INTERIOR

National Park Service

[NPS-WASO-NRNHL-DTS#-30581; PPWOCRADI0, PCU00RP14.R50000]

National Register of Historic Places; Notification of Pending Nominations and Related Actions

AGENCY: National Park Service, Interior.

ACTION: Notice.

SUMMARY: The National Park Service is soliciting electronic comments on the significance of properties nominated before July 4, 2020, for listing or related actions in the National Register of Historic Places.

DATES: Comments should be submitted electronically by August 5, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before July 4, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Huerfano County

Smith, Edwin L. Building, 300 South Main St., La Veta, SG100005435

FLORIDA

Osceola County

Veterans Memorial Library and Woman's Club of St. Cloud Auditorium (Clubhouses of Florida's Woman's Clubs MPS), 1012-1014 Massachusetts Ave., St. Cloud, MP100005413

GEORGIA

Bibb County

Napier Heights Historic District, Roughly bounded by Brentwood and Montpelier Aves., Winship St., I 75, Dannenberg Ave., Lasseter Pl., and Whitehall St., Macon, SG100005424

PENNSYLVANIA

Allegheny County

Ohringer Building, 640 Braddock Ave., Braddock, SG100005421

Beaver County

Ambridge Commercial Historic District, Merchant St. between 3rd and 8th Sts., Ambridge vicinity, SG100005420

VERMONT

Franklin County

Perley, Moses P., House, 527 Main St., Enosburg Falls, SG100005432

Washington County

Reynolds House, 102 South Main St., Barre, SG100005433

VIRGINIA

Culpeper County

Rose Hill (Civil War in Virginia MPS), 19202 Batna Rd., Culpeper vicinity, MP100005428

Hanover County

Hickory Hill Slave and African American Cemetery, Providence Church Rd., Ashland vicinity, SG100005427

Pittsylvania County

Southside High School, 200 Blairs Middle School Cir., Blairs, SG100005430

Roanoke Independent City

Salvation Army Citadel, 821 Salem Ave. SW, Roanoke, SG100005429

Rockbridge County

Brown-Swisher Barn, 2939 Walkers Creek Rd., Middlebrook vicinity, SG100005436

Williamsburg Independent City

Armistead House, 320 North Henry St., Williamsburg, SG100005437

Additional documentation has been received for the following resource:

MINNESOTA

Olmsted County

St. Mary's Hospital Dairy Farmstead (Additional Documentation), East of Rochester on Cty. Rd. 104, Rochester vicinity, AD80004538

Nomination submitted by Federal Preservation Officer:

The State Historic Preservation Officer reviewed the following nomination and responded to the Federal Preservation Officer within 45 days of receipt of the nomination and supports listing the property in the National Register of Historic Places.

VIRGINIA

Fairfax County

U.S. Geological Survey National Center, 12201 Sunrise Valley Dr., Reston, SG100005414

Authority: Section 60.13 of 36 CFR part 60

Dated: July 7, 2020.
Sherry A. Frear,
Chief, National Register of Historic Places/National Historic Landmarks Program.

[FR Doc. 2020-15712 Filed 7-20-20; 8:45 am]

BILLING CODE 4312-52-P